DEPARTMENT OF THE INTERIOR

Fish and Wildlife Service

Receipt of a Permit Application (Blairwood/Silver Oak) for Incidental Take of the Golden-Cheeked Warbler

AGENCY: Fish and Wildlife Service, Interior.

ACTION: Notice of availability.

SUMMARY: Blairwood, Ltd. (Applicant) has applied for an incidental take permit (TE-053021-0) pursuant to section 10(a) of the Endangered Species Act (Act). The requested permit would authorize the incidental take of the endangered golden-cheeked warbler. The proposed take would occur as the result of the construction and occupation of a residential and commercial development on the approximately 98.43-acre Silver Oak Subdivision, Williamson County, Texas.

DATES: Written comments on the application should be received within 60 days of the date of this publication.

ADDRESSES: Persons wishing to review the application may obtain a copy by writing to the Regional Director, U.S. Fish and Wildlife Service, P.O. Box 1306, Room 4102, Albuquerque, New Mexico, 87103. Persons wishing to review the EA/HCP may obtain a copy by contacting Sybil Vosler, U.S. Fish and Wildlife Service, 10711 Burnet Road, Suite 200, Austin, Texas, 78758 (512/490-0057). Documents will be available for public inspection by written request, by appointment only, during normal business hours (8 a.m. to 4:30 p.m.) at the U.S. Fish and Wildlife Service, Austin, Texas. Written data or comments concerning the application and EA/HCP should be submitted to the Supervisor, U.S. Fish and Wildlife Service, Austin, Texas, at the above address. Please refer to permit number TE-053021-0 when submitting comments.

FOR FURTHER INFORMATION CONTACT: Sybil Vosler at the U.S. Fish and Wildlife Service, 10711 Burnet Road, Suite 200, Austin, Texas, 78758.

SUPPLEMENTARY INFORMATION: Section 9 of the Act prohibits the “taking” of endangered species such as the golden-cheeked warbler. However, the Fish and Wildlife Service (Service), under limited circumstances, may issue permits to take endangered wildlife species incidental to, and not the purpose of, otherwise lawful activities. Regulations governing permits for endangered species are at 50 CFR 17.22.

The Service has prepared the Environmental Assessment/Habitat Conservation Plan (EA/HCP) for the incidental take application. A determination of jeopardy to the species or a Finding of No Significant Impact (FONSI) will not be made until at least 60 days from the date of publication of this notice. This notice is provided pursuant to section 10(c) of the Act and National Environmental Policy Act regulations (40 CFR 1506.6).

Applicants

Blairwood, Ltd. plans to construct a residential and commercial development on the approximately 98.43-acre Silver Oak Subdivision, located on County Road 174 (Brushy Creek Road), Cedar Park, Williamson County, Texas. This action will eliminate up to 109.9 acres of golden-cheeked warbler habitat, which may result in the take of two to three golden-cheeked warbler territories. The applicant proposes to compensate for this incidental take of golden-cheeked warbler habitat by preserving 101 acres of GCW habitat in perpetuity; and clearing only between August 1 to March 1 when the warblers are not present.

Bryan Arroyo,
Acting Regional Director, Region 2.

[FR Doc. 02-10104 Filed 4-24-02; 8:45 am]

BILLING CODE 4510-55-P